DEPARTMENT OF HEALTH AND HUMAN SERVICES

Administration for Children and Families

Submission for OMB Review; Comment Request

Title: Head Start Family and Child Experiences Survey (FACES).

OMB No.: 0970-0151.

Description: The Office of Planning, Research and Evaluation (OPRE), Administration for Children and Families (ACF), U.S. Department of Health and Human Services (HHS), is proposing to collect data for a new round of the Head Start Family and Child Experiences Survey (FACES). Featuring a new “Core Plus” study design, FACES will provide data on a set of key indicators, including information for performance measures. The design allows for more rapid and frequent data reporting (Core studies) and serves as a vehicle for studying more complex issues and topics in greater detail and with increased efficiency (Plus studies).

The FACES Core study will assess the school readiness skills of Head Start children, survey their parents, and ask their Head Start teachers to rate children's social and emotional skills. In addition, FACES will include observations in Head Start classrooms, and program director, center director, and teacher surveys. FACES Plus studies include additional survey content of policy or programmatic interest, and may include additional programs or respondents beyond those participating in the Core FACES study.

Previous notices provided the opportunity for public comment on the proposed Head Start program recruitment and center selection process (FR V. 78, pg. 75569 12/12/2013; FR V. 79, pg. 8461 02/12/2014) and the child-level data collection (FR V. 79, pg. 11445 02/28/2014; FR V. 79; pg. 27620 5/14/2014). This 30-day notice describes the planned data collection activities for spring 2015. Classroom sampling information collection, parent supplement survey content, and teacher, program director, and center director surveys for the Core study are included in this information collection request. Additionally, parent and staff interviews are included for FACES Plus studies.

Methods for Core data collection involve returning to 60 programs visited in fall 2014, where we will conduct previously approved activities of child assessments, parent surveys, and Teacher Child Reports. An additional 240 Head Start centers in 120 Head Start programs will be visited to sample classrooms. Field enrollment specialists (FES) will request a list of all Head Start-funded classrooms from Head Start staff. Across all 180 programs, 720 teachers, 180 program directors, and 360 center directors will complete surveys about the Head Start classroom or program and their own background using the Web or paper-and-pencil forms.

Two Plus studies are also planned in spring 2015. First, a topical module on family engagement will be conducted in the 60 programs participating in child-level data collection. All parents will complete a 5-minute spring supplement to the parent survey about parent-staff relationship and communication and community support. All teachers will complete a 5-minute Plus survey about parent-staff relationships (FPTRQ) as part of the core teacher survey. A subsample of Head Start parents (n=360) and Family Service Staff (n=180) will be interviewed on parent involvement in Head Start and program outreach and engagement practices. Interviews will take about one-hour and will be conducted by phone using paper-and-pencil guides. Second, within the 120 programs participating in classroom-only-level data collection, 480 classroom teachers will complete a new measure of program functioning (5E-Early Ed) to examine its reliability and validity for future FACES use.

The purpose of the Core data collection is to support the 2007 reauthorization of the Head Start program (P.L. 110-134), which calls for periodic assessments of Head Start's quality and effectiveness. As additional information collection activities are fully developed, in a manner consistent with the description provided in the 60-day notice (79 FR 11445) and prior to use, we will submit these materials for a 30-day public comment period under the Paperwork Reduction Act.

Respondents: Parents of Head Start children, Head Start teachers and Head Start staff.

Annual Burden Estimates—Current Information Collection Request
Instrument | Total number of respondents | Annual number of respondents | Number of responses per respondent | Average burden hour per response | Estimated annual burden hours
Classroom sampling form from Head Start staff | 360 | 120 | 1 | 0.17 | 20
Head Start spring parent supplement survey | 2,400 | 800 | 1 | 0.08 | 64
Head Start core teacher survey | 720 | 240 | 1 | 0.50 | 120
Head Start core program director survey | 180 | 60 | 1 | 0.50 | 30
Head Start core center director survey | 360 | 120 | 1 | 0.42 | 50
Head Start parent qualitative interview (Family Engagement) | 360 | 120 | 1 | 1.00 | 120
Head Start staff qualitative interview (FSS Engagement) | 180 | 60 | 1 | 1.00 | 60
Head Start staff (FSS) roster form | 60 | 20 | 1 | 0.17 | 3
Head Start parent engagement interview consent form | 360 | 120 | 1 | 0.17 | 20
Head Start staff engagement interview consent form | 180 | 60 | 1 | 0.17 | 10
Early care and education providers survey for Plus study (5E-Early Ed Pilot) | 480 | 160 | 1 | 0.33 | 53
Early care and education providers survey for Plus study (FPTRQ) | 240 | 80 | 1 | 0.08 | 6
Total |  |  |  |  | 556

Additional Information: Copies of the proposed collection may be obtained by writing to the Administration for Children and Families, Office of Planning, Research and Evaluation, 370 L'Enfant Promenade SW., Washington, DC 20447, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: OIRA_SUBMISSION@OMB.EOP.GOV, Attn: Desk Officer for the Administration for Children and Families.

Naomi Goldstein,
Director, Office of Planning, Research and Evaluation; Administration for Children and Families.

[FR Doc. 2014-28776 Filed 12-8-14; 8:45 am]

BILLING CODE 4184-22-P